SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: July 1-31, 2019.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists the projects, described below, receiving approval for the consumptive use of water pursuant to the Commission's approval by rule process set forth in 18 CFR 806.22(e) and § 806.22(f) for the time period specified above:

Water Source Approvals Issued Under 18 CFR 806.22(f)(13)

1. Chesapeake Appalachia, L.L.C.; Pad ID: Deremer; ABR-201407001.R1; Tuscarora Township, Bradford County, Pa.; Consumptive Use of Up to 7.5000 mgd; Approval Date: July 1, 2019.

2. Epsilon Energy USA, Inc.; Pad ID: Devine Ridge Pad; ABR-201907001; Rush Township, Susquehanna County, Pa.; Consumptive Use of Up to 7.5000 mgd; Approval Date: July 15, 2019.

3. Chesapeake Appalachia, L.L.C.; Pad ID: Deer Park; ABR-201907003; Windham Township, Wyoming County, Pa.; Consumptive Use of Up to 7.5000 mgd; Approval Date: July 15, 2019.

4. Chief Oil & Gas, LLC; Pad ID: SGL-12 A Drilling Pad; ABR-201407007.R1; Overton Township, Bradford County, Pa.; Consumptive Use of Up to 2.5000 mgd; Approval Date: July 23, 2019.

5. Chesapeake Appalachia, L.L.C.; Pad ID: White SUS; ABR-201407008.R1; Auburn Township, Susquehanna County, Pa.; Consumptive Use of Up to 7.5000 mgd; Approval Date: July 23, 2019.

6. Chesapeake Appalachia, L.L.C.; Pad ID: McDonough; ABR-201407009.R1; Meshoppen Township, Wyoming County, Pa.; Consumptive Use of Up to 7.5000 mgd; Approval Date: July 23, 2019.

7. Inflection Energy (PA), LLC; Pad ID: Hamilton Well Site; ABR-201403010.R1; Upper Fairfield Township, Lycoming County, Pa.; Consumptive Use of Up to 4.0000 mgd; Approval Date: July 23, 2019.

8. ARD Operating, LLC; Pad ID: COP Tract 653 Pad A; ABR-20090405.R2; Beech Creek Township, Clinton County, Pa.; Consumptive Use of Up to 5.0000 mgd; Approval Date: July 23, 2019.

9. ARD Operating, LLC; Pad ID: COP Tract 289 Pad A; ABR-20090410.R2; McHenry Township, Lycoming County, Pa.; Consumptive Use of Up to 5.0000 mgd; Approval Date: July 23, 2019.

10. ARD Operating, LLC; Pad ID: Larry's Creek F&G Pad A; ABR-20090411.R2; Cummings Township, Lycoming County, Pa.; Consumptive Use of Up to 5.0000 mgd; Approval Date: July 23, 2019.

11. ARD Operating, LLC; Pad ID: COP Tract 653 Pad B; ABR-20090414.R2; Beech Creek Township, Clinton County, Pa.; Consumptive Use of Up to 5.0000 mgd; Approval Date: July 23, 2019.

12. ARD Operating, LLC; Pad ID: COP Tract 653 Pad C; ABR-20090415.R2; Beech Creek Township, Clinton County, Pa.; Consumptive Use of Up to 5.0000 mgd; Approval Date: July 23, 2019.

13. ARD Operating, LLC; Pad ID: Larry's Creek F&G Pad B; ABR-20090416.R2; Cummings Township, Lycoming County, Pa.; Consumptive Use of Up to 5.0000 mgd; Approval Date: July 23, 2019.

14. Greylock Production, LLC.; Pad ID: Whitetail Gun & Rod Club #1; ABR-20090418.R2; Goshen Township, Clearfield County, Pa.; Consumptive Use of Up to 2.0000 mgd; Approval Date: July 23, 2019.

15. Chesapeake Appalachia, L.L.C.; Pad ID: Gerbino #1; ABR-20140710.R2; Ridgebury Township, Bradford County, Pa.; Consumptive Use of Up to 2.0000 mgd; Approval Date: July 23, 2019.

16. Chesapeake Appalachia, L.L.C.; Pad ID: Warren #1; ABR-20140711.R2; Ridgebury Township, Bradford County, Pa.; Consumptive Use of Up to 2.0000 mgd; Approval Date: July 23, 2019.

17. XTO Energy, Inc.; Pad ID: Marquardt; ABR-20090712.R2; Penn Township, Lycoming County, Pa.; Consumptive Use of Up to 3.0000 mgd; Approval Date: July 23, 2019.

18. XTO Energy, Inc.; Pad ID: Jenzano; ABR-20090713.R2; Franklin Township, Lycoming County, Pa.; Consumptive Use of Up to 3.0000 mgd; Approval Date: July 23, 2019.

19. XTO Energy, Inc.; Pad ID: Temple; ABR-20090714.R2; Moreland Township, Lycoming County, Pa.; Consumptive Use of Up to 3.0000 mgd; Approval Date: July 23, 2019.

20. Seneca Resources Company, LLC; Pad ID: J. Pino Pad G; ABR-20190717.R2; Covington Township, Tioga County, Pa.; Consumptive Use of Up to 2.0000 mgd; Approval Date: Jul7 23, 2019.

21. Seneca Resources Company, LLC; Pad ID: PHC 11V; ABR-20190720.R2; Lawrence Township, Clearfield County, Pa.; Consumptive Use of Up to 0.9999 mgd; Approval Date: July 23, 2019.

22. Seneca Resources Company, LLC; Pad ID: PHC 6H; ABR-20190721.R2; Lawrence Township, Clearfield County, Pa.; Consumptive Use of Up to 1.0000 mgd; Approval Date: July 23, 2019.

23. Seneca Resources Company, LLC; Pad ID: PHC 7H; ABR-20190722.R2; Lawrence Township, Clearfield County, Pa.; Consumptive Use of Up to 1.0000 mgd; Approval Date: July 23, 2019.

24. Seneca Resources Company, LLC; Pad ID: PHC 8H; ABR-20190723.R2; Lawrence Township, Clearfield County, Pa.; Consumptive Use of Up to 1.0000 mgd; Approval Date: July 23, 2019.

25. Chesapeake Appalachia, L.L.C.; Pad ID: Kent; ABR-20090726.R2; Towanda Township, Bradford County, Pa.; Consumptive Use of Up to 7.5000 mgd; Approval Date: July 23, 2019.

26. Chesapeake Appalachia, L.L.C.; Pad ID: Hershberger; ABR-20090739.R2; Terry Township, Bradford County, Pa.; Consumptive Use of Up to 7.5000 mgd; Approval Date: July 29, 2019.

27. Chief Oil & Gas, LLC; Pad ID: Dacheux B Drilling Pad; ABR-201407013.R1; Cherry Township, Sullivan County, Pa.; Consumptive Use of Up to 2.5000 mgd; Approval Date: July 29, 2019.

Authority: Pub. L. 91-575, 84 Stat. 1509 et seq., 18 CFR parts 806 and 808.

Dated: August 20, 2019.
Jason E. Oyler,
General Counsel and Secretary to the Commission.

[FR Doc. 2019-20077 Filed 9-16-19; 8:45 am]

BILLING CODE 7040-01-P